DEPARTMENT OF COMMERCE

National Oceanic and Atmospheric Administration

[I.D. 030107D]

Fisheries of the Gulf of Mexico; Fisheries of the South Atlantic; Southeastern Data, Assessment, and Review (SEDAR); Gulf of Mexico gag grouper; South Atlantic gag grouper; Gulf of Mexico red grouper; Public Meetings.

AGENCY: National Marine Fisheries Service (NMFS), National Oceanic and Atmospheric Administration (NOAA), Commerce.

ACTION: Notice of SEDAR Workshops for Gulf of Mexico and South Atlantic gag grouper and Gulf of Mexico red grouper.

SUMMARY: The SEDAR assessments of the Gulf of Mexico stock of gag grouper, the South Atlantic stock of gag grouper, and the Gulf of Mexico stock of red grouper will receive additional scientific scrutiny through a supplemental SEDAR Review Workshop and Evaluation Workshop.

DATES: The Evaluation Workshop will take place March 19 - 22, 2007. The Review Workshop will take place May 8 - 10, 2007. See SUPPLEMENTARY INFORMATION for specific dates and times.

ADDRESSES: The Evaluation Workshop will be held at the Southeast Fisheries Science Center, Miami Laboratory, 75 Virginia Beach Drive, Miami, FL 33149. The Review Workshop will be held in the Tampa, FL area at a location to be provided in a later notice.

FOR FURTHER INFORMATION CONTACT: John Carmichael, SEDAR Coordinator, 4055 Faber Place, Suite 201, North Charleston, SC 29405; telephone: (843) 571-4366.

SUPPLEMENTARY INFORMATION: The Gulf of Mexico, South Atlantic, and Caribbean Fishery Management Councils, in conjunction with NOAA Fisheries and the Atlantic and Gulf States Marine Fisheries Commissions have implemented the SEDAR process, a multi-step method for determining the status of fish stocks in the Southeast Region. SEDAR assessments are developed through an open workshop process that involves a variety of participants. Participants for SEDAR Workshops, appointed by the regional Fishery Management Councils, the Southeast Regional Office (SERO), and the Southeast Fishery Science Center (SEFSC), include data collectors and database managers; stock assessment scientists, biologists, and researchers; constituency representatives including fishermen, environmentalists, and non-governmental organization (NGO's); International experts; and staff of Councils, Commissions, and state and Federal agencies.

Assessments of Gulf of Mexico and South Atlantic stocks of gag grouper were developed through SEDAR 10, completed in July 2006. The assessment of Gulf of Mexico red grouper was developed through SEDAR 12, completed in February 2007. It is acknowledged that methods of assessing Southeastern fish stocks and addressing issues within available datasets improve with each SEDAR assessment, and recent assessment updates have allowed incorporation of such changes. There are similarities in the data sources used to develop SEDAR 10 and 12 assessments, potential similarities in basic species biology, and considerable overlap in fisheries that harvest these species within the respective Council areas of jurisdiction. Therefore, the Steering Committee has determined that a special review of these recent grouper assessments is required to ensure that uncertainties are treated appropriately and that any potential differences in methods or data treatments are thoroughly justified.

This special inquiry will be prepared through 2 SEDAR workshops: an evaluation workshop and review workshop. The evaluation workshop will consist of SEFSC and Council appointees familiar with the assessments and the fisheries which will be convened to review the assessments and possibly recommend additional sensitivity analyses. The Review Workshop will consist of an SEFSC appointed Chair, two independent reviewers appointed through the Center for Independent Experts (CIE), and up to two additional representatives appointed by the Gulf and South Atlantic Councils. The product of the Evaluation Workshop will be a report addressing key assessment uncertainties and recommending potential additional assessment analyses for consideration by the Review panel. The product of the Review Panel will be an independent evaluation of the recommendations and conclusions of the Evaluation Panel and any subsequent assessment analyses.

SEDAR Grouper Review Schedule:

March 19 - 22, 2007: Grouper Evaluation Workshop

March 19, 2007: 1 p.m. - 6 p.m.; March 20 - 21, 2007: 8 a.m. - 6 p.m.; March 22, 2007: 8 a.m. - 12 noon.

An appointed panel will review the SEDAR 10 assessments of Gulf of Mexico and South Atlantic gag grouper and the SEDAR 12 assessment of Gulf of Mexico red grouper. Participants will evaluate key data and methodological decisions and the justifications of those decisions as provided in the SEDAR 10 and 12 assessment reports. The panel will prepare a written report addressing Terms of Reference approved by the SEDAR Steering Committee.

May 8 - 10, 2007: SEDAR Grouper Review Workshop

May 8, 2007: 1 p.m. - 6 p.m.; May 9, 2007: 8 a.m. - 6 p.m.; May 10, 2007: 8 a.m. - 1 p.m.

The Review Workshop is an independent peer review of the recommendations of the Evaluation Panel and any subsequent analyses recommended by the Evaluation Panel. Workshop Panelists will review the SEDAR 10 and 12 assessments and the findings of the Evaluation Panel and document their comments and recommendations in a Consensus Summary Report.

Special Accommodations

These meetings are physically accessible to people with disabilities. Requests for sign language interpretation or other auxiliary aids should be directed to the Council office (see ADDRESSES) at least 10 business days prior to each workshop.

Dated: March 1, 2007.
Tracey L. Thompson,
Acting Director, Office of Sustainable Fisheries, National Marine Fisheries Service.

[FR Doc. E7-3849 Filed 3-5-07; 8:45 am]

BILLING CODE 3510-22-S